DEPARTMENT OF STATE

[Public Notice 8704]

Call for Expert Reviewers to the U.S. Government Review of the Synthesis Report (SYR) of the Fifth Assessment Report of the Intergovernmental Panel on Climate Change (IPCC)

SUMMARY: The United States Global Change Research Program, in cooperation with the Department of State, request expert review of the Intergovernmental Panel on Climate Change (IPCC) Second Order Draft (SOD) Synthesis Report (SYR) of the Fifth Assessment (AR5). More information on the report can be found at http://www.ipcc-syr.nl/.

The United Nations Environment Programme (UNEP) (http://www.unep.org/) and the World Meteorological Organization (WMO) (http://www.wmo.int/pages/index_en.html) established the IPCC in 1988. In accordance with its mandate and as reaffirmed in various decisions by the Panel, the major activity of the IPCC is to prepare comprehensive and up-to-date assessments of policy-relevant scientific, technical, and socio-economic information for understanding the scientific basis of climate change, potential impacts, and options for mitigation and adaptation. The IPCC develops a comprehensive assessment spanning all the above topics approximately every six years.

The First Assessment Report was completed in 1990, the Second Assessment Report in 1995, the Third Assessment Report in 2001, and the Fourth Assessment in 2007. Three working group volumes and a synthesis report comprise the Fifth Assessment Report. Working Group I assesses the scientific aspects of the climate system and climate change; Working Group II assesses the vulnerability of socio-economic and natural systems to climate change, potential negative and positive consequences, and options for adapting to it; and Working Group III assesses options for limiting greenhouse gas emissions and otherwise mitigating climate change. The Synthesis Report (SYR) synthesizes and integrates material contained with IPCC Assessment Reports and Special Reports. The SYR is to be based exclusively on material contained in the three Working Group Reports and Special Reports produced during the 5th or previous Assessment Cycles. The SYR is to be written in language accessible to non-technical users and guide readers to underlying materials if they wish to explore topics in greater depth.

Procedures for the IPCC and its preparation of reports can be found at the following Web sites: http://www.ipcc.ch/organization/organization_review.shtml -.UEY0LqSe7x8 http://ipcc.ch/organization/organization_procedures.shtml.

In October 2010, the IPCC approved the outline for the SYR of AR5 (http://www.ipcc.ch/meetings/session32/syr_final_scoping_document.pdf). Authors were nominated and selected in March of 2012. All IPCC reports go through two broad reviews: a first-order draft reviewed by experts, and a second-order draft reviewed by both experts and governments. The SOD of the SYR for the AR5 will be available for review beginning on 21 April 2014. As part of the U.S. Government Review of the SOD of the SYR for the AR5, the U.S. Government is soliciting comments from experts in relevant fields of expertise.

Experts may now register to review the draft report at: http://review.globalchange.gov; the report will be available for download once it is released on 21 April 2014. To be considered for inclusion in the U.S. Government submission, comments must be received by 5PM EDT Monday, 19 May 2014. The United States Global Change Research Program will coordinate collection and compilation of U.S. expert comments and the review of the report by a Review Committee of Federal scientists and program managers in order to develop a consolidated U.S. Government submission, which will be provided to the IPCC by 13 June 2014. Instructions for registering as a reviewer, the process of the review itself and details on how to submit comments, as well as the SOD of the report will be available at: http://review.globalchange.gov. Experts may choose to provide comments directly through the IPCC's expert review process, which occurs in parallel with the U.S. government & expert review.

More information on the IPCC's comment process may be found at http://www.ipcc.ch/activities/activities.shtml and http://www.ipcc.ch/pdf/ar5/review_of_wg_contributions.pdf.

To avoid duplication, those participating in the U.S. Government & Expert Review process (via http://review.globalchange.gov) should not also participate in the Expert Review process that submits comments directly to the IPCC Secretariat.

Comments to the U.S. government review should be submitted using the web-based system at: http://review.globalchange.gov. This certification will be published in the Federal Register.

Trigg Talley,
Deputy Special Envoy for Climate Change, IPCC Focal Point for the United States, Department of State.

[FR Doc. 2014-09126 Filed 4-21-14; 8:45 am]

BILLING CODE 4710-09-P